DEPARTMENT OF DEFENSE

Office of the Secretary

[Transmittal No. 20-17]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-17 with attached Policy Justification.

Dated: December 7, 2020.
Kayyonne T. Marston,
Alternate OSD Federal Register Liaison Officer, Department of Defense.

BILLING CODE 5001-06-P

BILLING CODE 5001-06-C

Transmittal No. 20-17

Notice of Proposed Issuance of Letter of Offer Pursuant to Section 36(b)(1) of the Arms Export Control Act, as amended

(i) Prospective Purchaser: Government of Egypt

(ii) Total Estimated Value:

Major Defense Equipment * | $ 0 million
Other | $417 million
Total | $417 million

(iii) Description and Quantity or Quantities of Articles or Services under Consideration for Purchase:

Major Defense Equipment (MDE):

None

Non-MDE:

A Maritime Domain Awareness (MDA) system that includes multi-site Acquisition Radars (fixed and mobile) with supporting facilities, Electro-Optical/Infrared Sensors (fixed, mobile, airborne), Radio Communications suites, Hybrid Power Generation Systems, Closed Circuit Television, Power and Data Distribution Units, Automatic Identification System, and various other surveillance and communications systems; and other related elements of logistical and program support. Equipment includes: thirty-four (34) Integrated Fixed Towers with supporting equipment; twenty-eight (28) Communication Towers with supporting equipment; twelve (12) Relay Towers with supporting equipment; six (6) Naval Base Operations Rooms, two (2) regional Operations Centers, and one (1) Strategic Operation Center all with supporting equipment; six (6) Harbor Protection Systems with supporting equipment; Intelligent Fiber Intrusion Detection System; twelve (12) Vertical Take Off and Landing UAV with six (6) Ground Stations; fourteen (14) Mobile Maritime Surveillance Vehicles; and, three (3) Aerostat ISR Integrated Platform with supporting equipment.

(iv) Military Department: Navy (EG-P-LGQ)

(v) Prior Related Cases, if any: EG-D-DAB

(vi) Sales Commission, Fee, etc., Paid, Offered, or Agreed to be Paid: None

(vii) Sensitivity of Technology Contained in the Defense Article or Defense Services Proposed to be Sold: None

(viii) Date Report Delivered to Congress: October 1, 2020

* As defined in Section 47(6) of the Arms Export Control Act.

POLICY JUSTIFICATION

Egypt—Maritime Domain Awareness System

The Government of Egypt has requested a possible sale of a Maritime Domain Awareness (MDA) system that includes multi-site Acquisition Radars (fixed and mobile) with supporting facilities, ElectroOptical/Infrared Sensors (fixed, mobile, airborne), Radio Communications suites, Hybrid Power Generation Systems, Closed Circuit Television, Power and Data Distribution Units, Automatic Identification System, and various other surveillance and communications systems; and other related elements of logistical and program support. Equipment includes: thirty-four (34) Integrated Fixed Towers with supporting equipment; twenty-eight (28) Communication Towers with supporting equipment; twelve (12) Relay Towers with supporting equipment; six (6) Naval Base Operations Rooms, two (2) regional Operations Centers, and one (1) Strategic Operation Center all with supporting equipment; six (6) Harbor Protection Systems with supporting equipment; Intelligent Fiber Intrusion Detection System; twelve (12) Vertical Take Off and Landing UAV with six (6) Ground Stations; fourteen (14) Mobile Maritime Surveillance Vehicles; and, three (3) Aerostat ISR Integrated Platform with supporting equipment. The estimated total program cost is $417 million.

This proposed sale will support the foreign policy and national security of the United States by helping to improve the security of a Major Non-NATO Ally country that continues to be an important strategic partner in the Middle East.

Egypt intends to use this Maritime Domain Awareness system to provide the Egyptian Armed Forces with a maritime surveillance capability with real-time situational awareness in the defense of Egypt maritime boundary, natural resources, and ports. Egypt will have no difficulty absorbing this equipment into its armed forces.

The proposed sale of this equipment and support will not alter the basic military balance in the region.

The prime contractor will be the Advanced Technology Systems Company (ATSC), McLean, VA. There are no known offset agreements proposed in connection with this potential sale.

Implementation of this proposed sale will require annual trips to Egypt involving U.S. Government and contractor representatives for technical reviews, support, and oversight for approximately five years.

There will be no adverse impact on U.S. defense readiness as a result of this proposed sale.

[FR Doc. 2020-27188 Filed 12-9-20; 8:45 am]

BILLING CODE 5001-06-P